FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 016301NF.

Name: Rical Air Express (Calif.) Inc. dba Rical Logistics.

Address: 9800 S. La Cienega Blvd., Suite 300, Inglewood, CA 90301.

Date Revoked: April 30, 2010.

Reason: Surrendered license voluntarily.

License Number: 017106NF.

Name: Liner Services International, Inc.

Address: 4402 Leisure Time Drive, Diamondhead, MS 39525.

Date Revoked: May 12, 2010.

Reason: Surrendered license voluntarily.

License Number: 018959N.

Name: Wanda Shipping Company, Ltd.

Address: 133-33 Brookville Blvd., Suite 310, Rosedale, NY 11442.

Date Revoked: May 5, 2010.

Reason: Surrendered license voluntarily.

License Number: 019479N.

Name: Cargo Zone Express Corporation dba HS Global Corp.

Address: 6101 Ball Road, Suite 101, Cypress, CA 90630.

Date Revoked: May 10, 2010.

Reason: Surrendered license voluntarily.

License Number: 020930N.

Name: TFMarine, Inc.

Address: 200 Barr Harbor Drive, Suite 400, West Conshohocken, PA 19428.

Date Revoked: May 12, 2010.

Reason: Surrendered license voluntarily.

Sandra L. Kusumoto,
Director, Bureau of Certification and Licensing.

[FR Doc. 2010-12675 Filed 5-25-10; 8:45 am]

BILLING CODE P